DEPARTMENT OF DEFENSE

Office of the Secretary

[Docket No. DoD-2008-OS-0037]

Proposed Collection; Comment Request

AGENCY: Defense Information Systems Agency, DoD.

ACTION: Notice.

In compliance with Section 3506(c)(2)(A) of the Paperwork Reduction Act of 1995, the Defense Information Systems Agency announces a proposed public information collection and seeks public comment on the provisions thereof. Comments are invited on: (a) Whether the proposed collection of information is necessary for the proper performance of the functions of the Agency, including whether the information shall have practical utility; (b) the accuracy of the Agency's estimate of the burden of the proposed information collection; (c) ways to enhance the quality, utility, and clarity of the information to be collected; and (d) ways to minimize the burden of the information collection on respondents, including through the use of automated collection techniques or other form of information technology.

DATES: Consideration will be given to all comments received by June 17, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Mr. Robert Berk, P. O. Box 4502, Arlington VA 22204-4502 or call (703) 681-2232.

Title and OMB Number: DISA Computing Services Survey; OMB Number 0704-TBD.

Needs and Uses: The survey data is needed from those organizations that use the DISA Computing Services provided by DISA Center for Computing Services. The survey responses will help determine the customers' satisfaction level with the provided Data Processing and Help Desk/ Operations Support team (OST) services. It will offer an opportunity for suggested changes as well. This information will be used to develop and execute an action plan that addresses all major issue areas perceived by the customer end-users.

Affected Public: DISA Contractors, potential DISA contractors, or all contractors who work for DoD related Services/Agencies and who use DISA Computing Services offerings.

Annual Burden Hours: 92 hours.

Number Of Respondents: 275.

Responses Per Respondent: 1.

Average Burden Per Response: 20 minutes.

Frequency: Annually.

SUPPLEMENTARY INFORMATION:

Summary of Information Collection

The survey data is needed from those organizations that use the DISA Computing Services provided by DISA Center for Computing Services. The survey responses will help determine the customers' satisfaction level with the provided Data Processing and Help Desk/ Operations Support team (OST) services. It will offer an opportunity for suggested changes as well. This information will be used to develop and execute an action plan that addresses all major issue areas perceived by the customer end-users.

Dated: March 24, 2008.
Patricia L. Toppings,
Alternate OSD Federal Register Liaison Officer, Department of Defense.

[FR Doc. E8-8375 Filed 4-17-08; 8:45 am]

BILLING CODE 5001-06-P